NUCLEAR REGULATORY COMMISSION

[NUREG-1748, Draft Report]

Environmental Review Guidance for Licensing Actions Associated With NMSS Programs; Notice of Extended Comment Period

AGENCY: Nuclear Regulatory Commission.

ACTION: Notice of Extended Comment Period.

SUMMARY: The Nuclear Regulatory Commission (NRC) is extending the public comment period on the draft document “Environmental Review Guidance for Licensing Actions Associated with NMSS Programs” (NUREG-1748) until November 30, 2002. The availability of this document was originally noticed in the Federal Register on October 18, 2001 (66 FR 52951). This document provides guidance for the planning and implementation of National Environmental Policy Act requirements. The guidance is intended for use by NRC staff and licensees/applicants, and provides information to the public. The NRC is seeking public comment in order to receive feedback from the widest range of interested parties and to ensure that all information relevant to developing the document is available to the NRC staff. This document was issued for interim use and comment in September 2001. The NRC will review public comments received on the draft document. Suggested changes will be incorporated, where appropriate, in response to those comments.

DATES: Comments received by November 30, 2002, will be considered. Comments received after that date will be considered to the extent practical.

ADDRESSES: Members of the public are invited and encouraged to submit comments to the Chief, Rules and Directives Branch, Mail Stop T6-D59, U.S. Nuclear Regulatory Commission, Washington, DC 20555-0001. Comments may also be sent electronically to nmssnepa@nrc.gov.

NUREG-1748 is available for inspection and copying for a fee at the Commission's Public Document Room, U.S. NRC's Headquarters Building, 11555 Rockville Pike (first floor), Rockville, Maryland, and electronically from the ADAMS Public Library component on the NRC Web site, http://www.nrc.gov (the Electronic Reading Room).

A free single copy of NUREG-1748 will be made available to interested parties until the supply is exhausted. Such copies may be requested by writing to the U.S. Nuclear Regulatory Commission, Distribution Services, Washington, DC 20555-0001 or submitting an e-mail to distribution@nrc.gov. NUREG-1748 is available on the World Wide Web at: http://www.nrc.gov/reading-rm/doc-collections/nuregs/staff/sr1748/index.html.

FOR FURTHER INFORMATION CONTACT: Either of the following: Matthew Blevins, U.S. Nuclear Regulatory Commission, Mail Stop T7-J8, Washington, DC 20555, Phone Number: (301) 415-7684, e-mail: mxb6@nrc.gov; or Melanie Wong, U.S. Nuclear Regulatory Commission, Mail Stop T7-J8, Washington, DC 20555, Phone Number: (301) 415-6262, e-mail: mcw@nrc.gov. Please e-mail comments to nmssnepa@nrc.gov.

Dated at Rockville, Maryland, this 20th day of May, 2002.
For the Nuclear Regulatory Commission.
Thomas H. Essig,
Chief, Environmental and Performance Assessment Branch, Division of Waste Management, NMSS.

[FR Doc. 02-13338 Filed 5-28-02; 8:45 am]

BILLING CODE 7590-01-P